DEPARTMENT OF AGRICULTURE

Farm Service Agency

Information Collection; Secretarial Disaster Designations

AGENCY: Farm Service Agency, USDA.

ACTION: Notice; request for comment.

SUMMARY: In accordance with the Paperwork Reduction Act of 1995, the Farm Service Agency is seeking comments from all interested individuals and organizations on the extension of a currently approved information collection in support of the Secretarial disaster designation process. The information collection is needed to identify disaster areas and establish eligible FSA counties for the purpose of making emergency loans available to eligible and qualified farmers and ranchers.

DATES: Comments must be received on or before July 14, 2003, to be assured of consideration. Comments received after that date will be considered to the extent practicable.

ADDRESSES: Comments concerning this notice should be addressed to Diane Sharp, Director, Production, Emergencies and Compliance Division, to Farm Service Agency, USDA, Mail Stop 0517, 1400 Independence Avenue, SW., Washington, DC 20250-0517 and to the Desk Officer for Agriculture, Office of Information and Regulatory Affairs, Office of Management and Budget, Washington, DC 20503. Comments also may be submitted by e-mail to: Diane_Sharp@wdc.usda.gov.

FOR FURTHER INFORMATION CONTACT: Lynn Tjeerdsma, Branch Chief, (202) 720-6602.

SUPPLEMENTARY INFORMATION:

Description of Information Collection

Title: Disaster Assistance Program.

OMB Number: 0560-0170.

Expiration Date of Approval: June 30, 2003.

Type of Request: Extension with no revision.

Abstract: The information collection is necessary for FSA to effectively administer the regulations relating to identifying disaster areas for the purpose of making emergency loans available to qualified and eligible farmers and ranchers who have suffered weather-related physical or production losses or both. Before making emergency loans available to farmers and ranchers, the collected information is used to determine whether the disaster areas meet the qualifying loss criteria in order to be considered as an eligible FSA County.

Estimate of Burden: Average 0.420 hour per response.

Type of Respondents: Farmers and Ranchers.

Estimated Annual Number of Respondents: 2,454.

Estimated Annual Number of Responses per Respondent: 1.

Estimated Total Annual Burden on Respondents: 1,032.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Signed at Washington, DC, on May 6, 2003.
James R. Little,
Administrator, Farm Service Agency.

[FR Doc. 03-11894 Filed 5-12-03; 8:45 am]

BILLING CODE 3410-05-P